Presidential Determination No. 2007-35 of September 28, 2007

Waiver of Limitation on Obligation and Expenditure of $1,051.6 Million in Fiscal Year 2007 Economic Support Funds for Iraq

Memorandum for the Secretary of State

Pursuant to the authority vested in me as President by the Constitution and the laws of the United States, including section 1314(c)(2) of the U.S. Troop Readiness, Veterans' Care, Katrina Recovery, and Iraq Accountability Appropriations Act, 2007 (Public Law 110-28 ) (the “Act”), I hereby waive the requirements of section 1314(c)(1) for $1,051.6 million of Fiscal Year 2007 Economic Support Funds for Iraq and direct you to submit to the Congress this determination along with the certification in accordance with section 1314(c)(2) of the Act.

You are authorized and directed to publish this determination in the Federal Register.

THE WHITE HOUSE,

Washington, September 28, 2007.

[FR Doc. 07-4954

Filed 10-3-07; 8:45 am]

Billing code 4710-10-P